DEPARTMENT OF TRANSPORTATION

Federal Aviation Administration

Public Notice For Waiver of Aeronautical Land-Use Assurance; Former Willmar Municipal Airport, Willmar, MN

AGENCY: Federal Aviation Administration, DOT.

ACTION: Notice of intent of waiver with respect to land.

SUMMARY: The Federal Aviation Administration (FAA) is considering a proposal to authorize the release of 138.33 acres of airport property at the former Willmar Municipal Airport, Willmar, MN. The land will be used for an industrial park. The FAA issued a Categorical Exclusion on August 8, 2012.

The City of Willmar built a new airport in 2006, therefore the acreage being released is not needed for aeronautical use. The 138.33 acres are on the east side of the former Willmar Municipal Airport, more specifically west of County Road 5 and north of Willmar Avenue SW. The acreage was originally acquired with City of Willmar funds. There are no impacts to the airport by allowing the airport to dispose of the property. The fair market value of this land is $729,100 and will be applied to the new Willmar Municipal Airport for operating and maintaining the airport. Approval does not constitute a commitment by the FAA to financially assist in the disposal of the subject airport property nor a determination of eligibility for grant-in-aid funding from the FAA.

In accordance with section 47107(h) of title 49, United States Code, this notice is required to be published in the Federal Register 30 days before modifying the land-use assurance that requires the property to be used for an aeronautical purpose.

DATES: Comments must be received on or before November 1, 2012.

ADDRESSES: Ms. Nancy M. Nistler, Program Manager, Federal Aviation Administration, Airports District Office, 6020 28th Avenue South, Room 102, Minneapolis, MN 55450-2706. Telephone Number (612) 253-4638/FAX Number (612) 253-4611. Documents reflecting this FAA action may be reviewed at this same location or at the Willmar City Offices, 333 6th Street SW., Willmar, MN 56201.

FOR FURTHER INFORMATION CONTACT: Ms. Nancy M. Nistler, Program Manager, Federal Aviation Administration, Airports District Office, 6020 28th Avenue South, Room 102, Minneapolis, MN 55450-2706. Telephone Number (612) 253-4638/FAX Number (612) 253-4611. Documents reflecting this FAA action may be reviewed at this same location or at the Willmar City Offices, 333 6th Street SW., Willmar, MN 56201.

SUPPLEMENTARY INFORMATION: The following is a legal description of the subject airport property to be released at the former Willmar Municipal Airport in Willmar, Minnesota:

That part of the West Half of the West Half of Section 16, and also that part of the East Half of Section 17, all in Township 119 North, Range 35 West of the Fifth Principal Meridian, Willmar Township, Kandiyohi County, Minnesota, described as follows;

Beginning at the southwest corner of the said Section 16; thence on a geodetic bearing of South 89 degrees 36 minutes 20 seconds East, along the south line of said Section 16, a distance of 90.98 feet; thence on a bearing of North 00 degrees 57 minutes 01 seconds West a distance of 816.83 feet; thence on a bearing of North 44 degrees 37 minutes 57 seconds East a distance of 139.98 feet; thence on a bearing of North 00 degrees 57 minutes 01 seconds West a distance of 100.02 feet; thence on a bearing of North 45 degrees 22 minutes 03 seconds West a distance of 142.85 feet; thence on a bearing of North 00 degrees 57 minutes 01 seconds West a distance of 750.79 feet; thence northerly, a distance of 321.10 feet, along a curve, which is concave to the east, having a radius of 11359.16 feet, a central angle of 1 degree 37 minutes 11 seconds, and a chord bearing of North 00 degrees 08 minutes 26 seconds West; thence on a bearing of North 00 degrees 40 minutes 09 seconds East a distance of 2181.18 feet; thence on a bearing of North 70 degrees 01 minutes 19 seconds West a distance of 96.74 feet to the west line of said Section 16; thence on a bearing of South 00 degrees 29 minutes 48 seconds West, along the west line of said Section 16, a distance of 431.32 feet to the northeast corner of the Southeast Quarter of the Northeast Quarter of said Section 17; thence on a bearing of South 89 degrees 02 minutes 46 seconds West, along the north line of the Southeast Quarter of the Northeast Quarter of said Section 17, a distance of 760.32 feet; thence on a bearing of South 00 degrees 40 minutes 09 seconds West a distance of approximately 162 feet to the center of a ditch; thence southwesterly, along the centerline of the ditch to its intersection with the west line of the east 132.00 feet of the Southwest Quarter of the Northeast Quarter of said Section 17; thence on a bearing of South 00 degrees 32 minutes 42 seconds West, along the west line of the east 132.00 feet of the Southwest Quarter of the Northeast Quarter of said Section 17, a distance of approximately 897.00 feet to north line of the Southeast Quarter of said Section 17; thence on a bearing of South 00 degrees 03 minutes 55 seconds West, along the west line of the east 132.00 feet of the West Half of the Southeast Quarter of said Section 17, a distance of 2651.65 feet to the south line of said Section 17; thence on a bearing of North 88 degrees 41 minutes 00 seconds East, along the south line of said Section 17, a distance of 1490.16 feet to the point of beginning.

Issued in Minneapolis, MN on September 10, 2012.
Laurie J. Suttmeier,
Acting Manager, Minneapolis Airports District Office, FAA, Great Lakes Region.

[FR Doc. 2012-24273 Filed 10-1-12; 8:45 am]

BILLING CODE 4910-13-P